DEPARTMENT OF ENERGY

Federal Energy Regulatory Commission

[Docket No. EL03-33-000]

Aquila, Inc., Complainant v. Public Service Company of Colorado, Respondent; Notice of Complaint

December 19, 2002.

Take notice that on December 18, 2002, Aquila, Inc., (Aquila) tendered for filing a “Complaint Seeking Rate Relief Pursuant To Section 306 of the Federal Power Act and Motion To Consolidate” against Public Service Company of Colorado (PSCO). Aquila's complaint alleges that PSCO has included costs in the fuel cost adjustment charge under Aquila's prior power purchase agreement with PSCO that are not eligible for recovery thereunder. Aquila seeks refunds, plus interest, of the alleged unlawful charges it has paid to PSCO and a Commission investigation and hearing, which it requests the Commission to consolidate with similar pending complaints in Docket Nos. EL02-25 et.al.

Aquila states that copies of the Complaint were served, simultaneous with filing with the Commission on PSCO, its parent company Exel Energy, Inc., and the Public Utilities Commission of the State of Colorado.

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Comment Date: January 8, 2003.

Linwood A. Watson, Jr.,
Deputy Secretary.

[FR Doc. 02-32553 Filed 12-24-02; 8:45 am]

BILLING CODE 6717-01-P